DEPARTMENT OF DEFENSE

Department of the Army, Corps of Engineers

Intent To Prepare a Draft Environmental Impact Statement (DEIS) for a Feasibility Study of Navigation Improvements at Port Everglades, Broward County, FL

AGENCY: U.S. Army Corps of Engineers, DoD.

ACTION: Notice of intent.

SUMMARY: The Jacksonville District, U.S. Army Corps of Engineers intends to prepare a Draft Environmental Impact Statement (DEIS) for the Feasibility Study of Navigation Improvements, Port Everglades Harbor, Broward County, Florida. The study is a cooperative effort between the U.S. Army Corps of Engineers and the Broward County Department of Port Everglades.

FOR FURTHER INFORMATION CONTACT: Questions about the proposed action can be directed to Rea Boothby at (904) 232-3453, Environmental Branch, Planning Division, P.O. Box 4970, Jacksonville, Florida 32232-0019.

SUPPLEMENTARY INFORMATION: 1. Project Background and Authorization. Port Everglades was originally constructed by local interests between 1925-1928, and was authorized for Federal maintenance by the River and Harbor Act of 1930 and subsequent Acts.

2. Need or Purpose. Improvements, including channel deepening and widening, are required to accommodate future commercial fleet and to more effectively transit the existing fleet.

3. Proposed Solution and Forecast Completion Date. Widen and deepen every major Federal channel and basin within the project and develop (widen and deepen) the Dania Cutoff Canal. Construction is forecast to begin around March 2003.

4. Prior Environmental Assessments (EAs) EISs. An EA was prepared in 1990 to accommodate dredging in the Southport access channel and Turning Notch.

5. Alternatives. Alternatives currently considered include no action, and 9 structural alternatives.

6. Issues. The EIS will consider impacts on seagrasses (including Johnson Seagrass, a threatened species), mangrove and hardbottom communities, other protected species, shore protection, health and safety, water quality, aesthetics and recreation, fish and wildlife resources, cultural resources, energy conservation, socio-economic resources, and other impacts identified through scoping, public involvement, and interagency coordination.

7. Scoping Process.

a. A scoping letter was sent to interested parties in June 1997. In addition, all parties are invited to participate in the scoping process by identifying any additional concerns on issues, studies needed, alternatives, procedures, and other matters related to the scoping process.

b. Public Meeting. A public scoping meeting will be held on March 28, 2001 at 7 P.M. in the Broward County Commission Chambers located at 115 South Andrews Avenue, Ft. Lauderdale, FL. An agency scoping meeting will be held on March 29, 2001 at Port Everglades.

8. Public Involvement: We invite the participation of affected Federal, state and local agencies, affected Indian tribes, and other interested private organizations and parties.

9. Coordination. The proposed action is being coordinated with the U.S. Fish and Wildlife Service (FWS) and the National Marine Fisheries Service (NMFS) under Section 7 of the Endangered Species Act, with the FWS under the Fish and Wildlife Coordination Act, with the NMFS concerning Essential Fish Habitat and the State Historic Preservation Officer.

10. Other Environmental Review and Consultation. The proposed action would involve evaluation for compliance with guidelines pursuant to Section 404 (b) of the Clean Water Act; application (to the State of Florida) for Water Quality Certification pursuant to Section 401 of the Clean Water Act; certification of state lands, easements, and rights of way; and determination of the Coastal Zone Management Act consistency.

11. Agency Role. The Corps and the non-Federal sponsor, Broward County Department of Port Everglades, will provide extensive information and assistance on the resources to be impacted, mitigation measures, and alternatives.

12. DEIS Preparation. It is estimated that the DEIS will be available to the public on or about September 2001.

Gregory D. Showalter,
Army Federal Register Liaison Officer.

[FR Doc. 01-7257 Filed 3-22-01; 8:45 am]

BILLING CODE 3710-AJ-U